FEDERAL COMMUNICATIONS COMMISSION.

47 CFR Parts 1, 73, and 74

[MM Docket No. 98-93; FCC 00-368]

1998 Biennial Regulatory Review—Streamlining of Radio Technical Rules

AGENCY: Federal Communications Commission.

ACTION: Final rule.

SUMMARY: This document continues the Commission's wide-ranging reform of the Mass Media Bureau's radio technical rules. These rule modifications were proposed as part of a broad-based initiative, undertaken in conjunction with the Commission's 1998 biennial regulatory review, to streamline the Mass Media Bureau radio technical rules, and are intended to speed the introduction of new and improved broadcast services to the public, provide greater flexibility to broadcasters to improve existing services, and reduce regulatory burdens on applicants.

DATES: Effective January 19, 2001.

FOR FURTHER INFORMATION CONTACT: Peter H. Doyle, Audio Services Division, Mass Media Bureau (202) 418-2700.

SUPPLEMENTARY INFORMATION: This is a summary of the Commission's Second Report and Order in MM Docket No. 98-93, adopted October 12, 2000, and released November 1, 2000. The complete text of this Second Report and Order is available for inspection and copying during normal business hours in the FCC Reference Center, on the Internet at http://www.fcc.gov/mmb/asd/welcome2.html#NEWSBOX or using the Commission's Electronic Document Management System (EDOCS) at http://www.fcc.gov/searchtools.html, and may be purchased from the Commission's copy contractor, International Transcription Service (ITS), 1231 20th Street, NW., Washington, DC 20036, (202) 857-3800 telephone, (202) 857-3805 facsimile.

Summary of Second Report and Order

I. Introduction

In this Second Report and Order, the Commission modifies the minimum distance separation requirements for short-spaced FM stations to allow short spacings of at least six kilometers for all classes of FM stations; permits short-spaced FM stations in Puerto Rico and the U.S. Virgin Islands additional site location flexibility by adopting the use of contour protection to determine station compliance with Commission rules; creates a new class of FM station, Class C0, with maximum permissible facilities of 100 kilowatts effective radiated power (ERP) and 450 meters antenna radiation center height above average terrain (HAAT), and specifies minimum distance separation requirements for this new FM class; specifies a new minimum antenna radiation center HAAT of 451 meters for Class C FM stations; creates a demand-driven procedure for reclassification to Class C0 of existing Class C FM stations with facilities less than 100 kilowatts ERP and 451 meters antenna radiation center HAAT; permits certain broadcast stations to correct licensed transmitter site geographic coordinates and allows certain FM translator and FM booster stations to request a decrease in ERP by filing only a license application; modifies the second adjacent channel interference ratios for noncommercial educational (NCE) FM and FM translator stations; and requires NCE FM facilities to provide 1 mV/m (60 dBμ) or greater signal strength to at least 50 percent of the population or area within the station's community of license.

II. Discussion

A. FM Technical Requirements

1. Modification of Minimum Distance Separation Requirements for Short-Spaced FM Stations

To be considered fully spaced and to be able to use maximum permissible facilities for their station class, the transmitter sites for all non-reserved band FM stations and certain reserved band FM stations are required to meet the minimum distance separation requirements of 47 CFR 73.207. However, in order to allow site location flexibility, some of these FM stations are permitted to utilize short-spaced transmitter sites, provided that the short-spaced station meets the less restrictive minimum distance separation requirements for short-spaced stations contained in 47 CFR 73.215(e), and does not cause prohibited contour overlap to nearby co-channel or first, second, or third adjacent channel FM stations. In 47 CFR 73.215(e), co-channel and first-adjacent channel FM stations are permitted considerable short spacing (between 4 and 35 kilometers), while second and third-adjacent channel FM stations are permitted little or no short spacing (between 0 and 10 kilometers). To allow all eligible FM stations maximum site location flexibility, 47 CFR 73.215(e) is modified to provide a minimum of six kilometers relief from the fully-spaced minimum distance separation requirements of 47 CFR 73.207.

2. Adoption of Contour Protection Methodology for Short-Spaced FM Stations in Puerto Rico and the U.S. Virgin Islands

FM stations in Puerto Rico and the U.S. Virgin Islands may use short-spaced transmitter sites so long as the facilities proposed at the short-spaced site do not extend the predicted 1 mV/m contour of the station toward the 1 mV/m contour of any short-spaced station. Due to the varying terrain on the islands, this requirement unnecessarily restricts site location for many FM stations in Puerto Rico and the U.S. Virgin Islands. In order to allow FM stations in Puerto Rico and the U.S. Virgin Islands the same site location flexibility as mainland U.S. FM stations, 47 CFR 73.215 is modified to eliminate the provision prohibiting extension of the short-spaced FM station's predicted 1 mV/m contour toward the 1 mV/m contour of any short-spaced FM station, and to use the contour protection method to show that proposed facilities at a short-spaced site do not cause prohibited contour overlap to an affected short-spaced station.

3. Creation of New Class C0 FM Station Class, Modification of Minimum Class C FM Station Antenna Radiation Center HAAT, and Creation of a Procedure for Reclassification to Class C0 of Existing Substandard Class C FM Stations

Class C FM stations are permitted maximum facilities of 100 kilowatts ERP and 600 meters antenna radiation center HAAT (or the equivalent thereof), and are required to operate using minimum facilities of 100 kilowatts ERP and 300 meters antenna radiation center HAAT (or the equivalent thereof). The Class C FM station minimum distance separation requirements of 47 CFR 73.207 were derived on the basis of maximum permissible Class C facilities. Recent studies show that greater than one-half of the existing Class C FM stations operate with antenna radiation center HAATs between 300 meters and 450 meters, far less than the maximum 600 meters that is permitted for the class. Thus, the minimum distance separation requirements of 47 CFR 73.207 overprotect the actual service areas of most Class C FM stations, and this overprotection may preclude the introduction of new and/or improved FM service to the public. In order to remedy this overprotection of existing FM Class C assignments and to allow the public to fully utilize scarce spectrum resources, the Commission has modified 47 CFR 73.211 and created a new FM station class, Class C0, with required minimum ERP of 100 kilowatts and allowable antenna radiation center HAAT of between 300 and 450 meters; and has modified 47 CFR 73.207 to specify minimum distance separation requirements for the new FM station class that are less than those required for a Class C FM station. In concert with the creation of the new FM Class C0, the Commission has modified 47 CFR 73.211 and increased the minimum required antenna radiation center HAAT for FM Class C to 451 meters.

Existing substandard Class C FM stations, i.e. those with antenna radiation center HAATs between 300 and 450 meters, will not automatically be reclassified to FM Class C0. Instead, as specified in amended 47 CFR 1.420 and 47 CFR 73.3573, reclassification of an existing substandard Class C FM station will be triggered only when a facility modification application or a petition for rule making that expresses a competing demand for the underutilized spectrum, and which demonstrates that no other FM channel is available for the proposed service, is filed with the Commission. Proponents of the proposed reclassification of the substandard Class C FM station must provide copies of the application or petition for rule making to the licensee of the affected Class C station. In addition, the Commission will notify the existing Class C FM station of the filing of the application or the petition for rule making that proposes reclassification of the station. The existing Class C station proposed for reclassification will be afforded an opportunity to retain its existing Class C status by notifying the Commission of its intention to file a facility modification application to increase its facilities to comport with the modified Class C requirements within 30 days of the Commission's notification of the proposed reclassification, and by filing the facility modification application within 180 days thereafter. In addition, the existing Class C station proposed for reclassification may challenge the proposed reclassification on the grounds that the triggering application or petition for rule making violates the Commission's technical rules or that there is another frequency available for the proposed new or improved service within 30 days of the Commission's notification of the proposed reclassification. If the licensee of the affected existing Class C station does not file a facility improvement application or oppose its proposed reclassification in the time periods allowed, the existing substandard Class C FM station will be reclassified to FM Class C0.

B. Streamlined Application Processing Changes

1. Correction of Transmitter Site Location Geographic Coordinates for Certain Licensed Stations by License Application Only

The correction of geographic coordinates for the transmitter site of a licensed broadcast station currently requires the filing of a construction permit application and a subsequent license application to cover the construction permit regardless of the magnitude of the correction. Licensed stations proposing transmitter site geographic coordinate corrections of three or fewer seconds in latitude and/or longitude may now, pursuant to amended 47 CFR 73.1690, file only a license application, provided that the transmitter site location correction does not create a new short spacing or worsen an existing short spacing, and that the licensee has obtained the required Federal Aviation Administration clearance and Commission antenna structure registration for the corrected transmitter site location.

2. FM Translator Stations and FM Booster Station ERP Reductions by License Application Only

A request for reduction of ERP for FM translator stations and FM booster stations currently requires the filing of a construction permit application and a subsequent license application to cover the construction permit. A reduction in ERP would not increase the potential for interference caused by an FM translator or booster station, and there are no principal community coverage requirements for FM translator and booster stations. As a result, the Commission modified 47 CFR 74.1204 to permit a decrease in the ERP of an FM translator or booster station by the filing of a license application specifying the reduced ERP, provided that exhibits demonstrating that the following requirements are met are submitted with the application:

a. The license application may not propose elimination of authorized horizontally polarized ERP;

b. The height of the station's antenna radiation center is not increased by more than two meters nor decreased by more than four meters from its authorized value; and

c. The station is not currently authorized to operate with separate horizontal and vertical antennas mounted at different heights on the supporting structure.

C. NCE FM and FM Translator Technical Requirements

1. Modification of Second-Adjacent Channel Interference Ratios for NCE FM and FM Translator Stations

Currently, the second-adjacent channel interference ratio for short-spaced FM stations specified in 47 CFR 73.215 is 40 decibel (dB) higher than the protected signal strength, while the second-adjacent channel interference ratio for NCE FM stations, specified in 47 CFR 73.509, and FM translator stations, specified in 47 CFR 74.1204, is 20 dB higher than the protected signal strength. Since experience has proven that the 40 dB interference ratio more accurately predicts the areas where second-adjacent channel interference might occur within a station's protected contour, a 40 dB second-adjacent channel interference ratio is adopted for both NCE FM stations and FM translator stations, and 47 CFR 73.509 and 47 CFR 74.1204 are modified accordingly.

2. Specification of Required Principal Community Coverage for NCE FM Stations

At the current time, there are no principal community coverage requirements for NCE FM stations. Absent such requirements, an NCE FM station may be licensed or relocated without any assurance that it would provide service to its principal community. In order to avoid such loss of service to the public, the Commission has adopted 47 CFR 73.515 which requires NCE FM stations to provide a predicted 1 mV/m (60 dBμ) or greater signal strength to at least 50 percent of the population or area within the station's principal community. This new NCE FM principal community coverage requirement applies not only to all new NCE FM applications, but also to all NCE FM applications pending at the Commission on the release date of this Order. NCE FM applicants will be permitted to file minor curative amendments to pending NCE FM applications to bring them into compliance with the new NCE FM principal community coverage requirement.

Administrative Matters

Paperwork Reduction Act of 1995 Analysis

The action contained herein has been analyzed with respect to the Paperwork Reduction Act of 1995 and found to impose new or modified reporting and recordkeeping requirements or burdens on the public. Implementation of these new or modified reporting and recordkeeping requirements will be subject to approval by the Office of Management and Budget as prescribed by the Act.

Final Regulatory Flexibility Certification

The Regulatory Flexibility Act of 1980, as amended (RFA), requires that a regulatory flexibility analysis be prepared for rulemaking proceedings, unless the agency certifies that “the rule will not have a significant economic impact on a substantial number of small entities.” The RFA generally defines “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

In this Second Report and Order, the Commission continues its wide-ranging radio technical streamlining initiative. The Order amends the commercial FM station spacing table for short-spaced assignments, 47 CFR 73.215(e), to provide all stations with minimum relief of six kilometers from basic spacing requirements, 47 CFR 73.207, with respect to second and third adjacent channel stations. The Order also provides special spacing relief for FM commercial stations in Puerto Rico and the Virgin Islands that operate at greater than class maximums. These changes will give certain existing stations, including small entities, additional flexibility in the siting of their technical facilities and may facilitate station relocations to preferred sites. These rule changes impose no costs or reporting burdens on existing stations. Although impossible to predict, the Commission anticipates approximately 20-30 stations per year of the more than 5,000 existing commercial FM stations will take advantage of these changes and file applications to improve their technical facilities.

The Order divides the current FM Class C into two separate classes based on antenna height. The Commission rejected an across-the-board downgrading of existing Class C stations that do not meet the new minimum antenna height. Instead, it adopted a procedure for limited downgrading only where there is a competing demand for the radio spectrum and the Class C station fails to modify its facilities to the new Class C minimum antenna height. This modification of the rule imposes no cost or reporting burden on existing stations. Although impossible to predict, the Commission anticipates that not more than 10 stations per year will seek facility changes that require the downgrading of one of the approximately 500 Class C stations operating with antenna heights below the new class minimum.

The Order expands the types of facility changes covered by the Mass Media Bureau's expedited one-step licensing procedure to include radio tower coordinate corrections of three or fewer seconds and FM translator and booster power reduction proposals. These rule changes impose no cost or reporting burdens on existing stations. Although impossible to predict, the Commission anticipates that approximately 40 radio broadcast stations, out of approximately 12,600 radio stations and 4,000 FM translator stations, will benefit from the expansion of the one-step licensing procedure.

Finally, the Order gives additional facility siting flexibility to noncommercial educational (NCE) FM stations by modifying the second-adjacent channel interference standard to more closely conform to the less restrictive commercial FM standard. It also establishes, on a going forward basis, an NCE principal community coverage standard. These rule changes impose no cost or reporting burdens on existing stations. The change in the second adjacent channel interference protection standard will give certain NCE stations additional flexibility in locating their technical facilities. Although impossible to predict, the Commission anticipates that it will receive approximately 10-20 facility modification applications, from a total of over 2,500 NCE FM stations that take advantage of this increased technical flexibility. The establishment of an NCE FM community of license signal coverage requirement may restrict siting options for certain stations. Although impossible to predict, the Commission anticipates that this new requirement will impact fewer than five stations per year.

In sum, the changes we are adopting are small and will generally have minor, but positive, effects on radio licensees, including small entities that can take advantage of these streamlining rule changes. In addition, the number of small entities affected by these modifications is not substantial. As noted above, there is no economic effect on the vast majority of radio stations as a result of most of the rule changes adopted by the Commission in this Order. Only two changes could have an adverse economic effect on radio stations: The costs associated with a facility modification to preserve full Class C status; and the potential costs associated with restricting the location of NCE FM station technical facilities to those sites that would ensure adequate signal coverage of the station's community of license. As stated above, however, none of these potential economic impacts are expected to be significant.

Therefore, we certify that the requirements of this Second Report and Order will not have a significant economic impact on a substantial number of small entities. The Commission will send a copy of the Second Report and Order, including a copy of this final certification, in a report to Congress pursuant to the Small Business Regulatory Enforcement Fairness Act of 1996. In addition, the Second Report and Order and this certification will be sent to the Chief Counsel for Advocacy of the SBA.

Authority for issuance of the Second Report and Order is contained in sections 4(i), 4(j), 303, 308 and 309 of the Communications Act of 1934, as amended, 47 U.S.C. 4(i), 4(j), 303, 308 and 309.

List of Subjects

47 CFR Part 1

Administrative practice and procedure, Radio.

47 CFR Parts 73 and 74

Radio.

Federal Communications Commission.
Magalie Roman Salas,
Secretary.

Rules Changes

For the reasons discussed in the preamble, the Federal Communications Commission amends Parts 1, 73, and 74 of Chapter 1 of title 47 of the Code of Federal Regulations as follows:

PART 1—PRACTICE AND PROCEDURE

1. The authority citation for Part 1 continues to read as follows:

Authority: 47 U.S.C. 151, 154(i), 154(j), 155, 225, 303(r), 309.

2. Amend § 1.420 as follows:

a. Redesignate Note 1 following paragraph (g)(3) as Note 1 to Paragraph (g).

b. Add Note 2 To Paragraph (g).

c. Redesignate Note 2 following paragraph (h) to read Note 1 to Paragraph (h).

The addition and revisions to § 1.420 read as follows:

§ 1.420 Additional procedures in proceedings for amendment of the FM or TV Tables of Allotments.

* * * * *

Note 2 to Paragraph (g): The reclassification of a Class C station in accordance with the procedure set forth in Note 4 to § 73.3573 may be initiated through the filing of an original petition for amendment of the FM Table of Allotments. The Commission will notify the affected Class C station licensee of the proposed reclassification by issuing a notice of proposed rule making, except that where a triggering petition proposes an amendment or amendments to the FM Table of Allotments in addition to the proposed reclassification, the Commission will issue an order to show cause as set forth in Note 4 to § 73.3573, and a notice of proposed rule making will be issued only after the reclassification issue is resolved. Triggering petitions will be dismissed upon the filing, rather than the grant, of an acceptable construction permit application to increase antenna height to at least 451 meters HAAT by a subject Class C station.

PART 73—RADIO BROADCAST SERVICES

1. The authority citation for Part 73 continues to read as follows:

Authority: 47 U.S.C. 154, 303, 334 and 336.

2. Amend § 73.207 by revising Table A of paragraph (b)(1) to read as follows:

§ 73.207 Minimum distance separation between stations.

* * * * *

(b) * * *

(1) * * *

Table A—Minimum Distance Separation Requirements in Kilometers (miles)
Relation | Co-channel | 200 kHz | 400/600 kHz | 10.6/10.8 MHz
A to A | 115 (71) | 72 (45) | 31 (19) | 10 (6)
A to B1 | 143 (89) | 96 (60) | 48 (30) | 12 (7)
A to B | 178 (111) | 113 (70) | 69 (43) | 15 (9)
A to C3 | 142 (88) | 89 (55) | 42 (26) | 12 (7)
A to C2 | 166 (103) | 106 (66) | 55 (34) | 15 (9)
A to C1 | 200 (124) | 133 (83) | 75 (47) | 22 (14)
A to C0 | 215 (134) | 152 (94) | 86 (53) | 25 (16)
A to C | 226 (140) | 165 (103) | 95 (59) | 29 (18)
B1 to B1 | 175 (109) | 114 (71) | 50 (31) | 14 (9)
B1 to B | 211 (131) | 145 (90) | 71 (44) | 17 (11)
B1 to C3 | 175 (109) | 114 (71) | 50 (31) | 14 (9)
B1 to C2 | 200 (124) | 134 (83) | 56 (35) | 17 (11)
B1 to C1 | 233 (145) | 161 (100) | 77 (48) | 24 (15)
B1 to C0 | 248 (154) | 180 (112) | 87 (54) | 27 (17)
B1 to C | 259 (161) | 193 (120) | 105 (65) | 31 (19)
B to B | 241 (150) | 169 (105) | 74 (46) | 20 (12)
B to C3 | 211 (131) | 145 (90) | 71 (44) | 17 (11)
B to C2 | 241 (150) | 169 (105) | 74 (46) | 20 (12)
B to C1 | 270 (168) | 195 (121) | 79 (49) | 27 (17)
B to C0 | 272 (169) | 214 (133) | 89 (55) | 31 (19)
B to C | 274 (170) | 217 (135) | 105 (65) | 35 (22)
C3 to C3 | 153 (95) | 99 (62) | 43 (27) | 14 (9)
C3 to C2 | 177 (110) | 117 (73) | 56 (35) | 17 (11)
C3 to C1 | 211 (131) | 144 (90) | 76 (47) | 24 (15)
C3 to C0 | 226 (140) | 163 (101) | 87 (54) | 27 (17)
C3 to C | 237 (147) | 176 (109) | 96 (60) | 31 (19)
C2 to C2 | 190 (118) | 130 (81) | 58 (36) | 20 (12)
C2 to C1 | 224 (139) | 158 (98) | 79 (49) | 27 (17)
C2 to C0 | 239 (148) | 176 (109) | 89 (55) | 31 (19)
C2 to C | 249 (155) | 188 (117) | 105 (65) | 35 (22)
C1 to C1 | 245 (152) | 177 (110) | 82 (51) | 34 (21)
C1 to C0 | 259 (161) | 196 (122) | 94 (58) | 37 (23)
C1 to C | 270 (168) | 209 (130) | 105 (65) | 41 (25)
C0 to C0 | 270 (168) | 207 (129) | 96 (60) | 41 (25)
C0 to C | 281 (175) | 220 (137) | 105 (65) | 45 (28)
C to C | 290 (180) | 241 (150) | 105 (65) | 48 (30)

* * * * *

5. Amend § 73.210 by revising paragraphs (a), (b)(3)(iv), and by adding paragraph (b)(3)(v) to read as follows:

§ 73.210 Station classes.

(a) The rules applicable to a particular station, including minimum and maximum facilities requirements, are determined by its class. Possible class designations depend upon the zone in which the station's transmitter is located, or proposed to be located. The zones are defined in § 73.205. Allotted station classes are indicated in the Table of Allotments, § 73.202. Class A, B1 and B stations may be authorized in Zones I and I-A. Class A, C3, C2, C1, C0 and C stations may be authorized in Zone II.

(b) * * *

(3) * * *

(iv) If this distance is greater than 72 km and less than or equal to 83 km, the station is Class C0.

(v) If this distance is greater than 83 km and less than or equal to 92 km, the station is Class C.

* * * * *

6. Amend § 73.211 by revising paragraphs (a)(1)(vii), (a)(2), the table to (b)(1), and by adding paragraph (d) to read as follows:

§ 73.211 Power and antenna height requirements.

(a) * * *

(1) * * *

(vii) The minimum ERP for Class C and C0 stations is 100 kW.

(2) Class C0 stations must have an antenna height above average terrain (HAAT) of at least 300 meters (984 feet). Class C stations must have an antenna height above average terrain (HAAT) of at least 451 meters (1480 feet).

* * * * *

(b) * * *

(1) * * *

Station class | Maximum ERP | Reference HAAT in meters (ft.) | Class contour distance in kilometers
A | 6 kW (7.8 dBk) | 100 (328) | 28
B1 | 25 kW (14.0 dBk) | 100 (328) | 39
B | 50 kW (17.0 dBk) | 150 (492) | 52
C3 | 25 kW (14.0 dBk) | 100 (328) | 39
C2 | 50 kW (17.0 dBk) | 150 (492) | 52
C1 | 100 kW (20.0 dBk) | 299 (981) | 72
C0 | 100 kW (20.0 dBk) | 450 (1476) | 83
C | 100 kW (20.0 dBk) | 600 (1968) | 92

* * * * *

(d) Existing Class C stations below minimum antenna HAAT. Class C stations authorized prior to January 19, 2001 that do not meet the minimum antenna HAAT specified in paragraph (a)(2) of this section for Class C stations may continue to operate as authorized subject to the reclassification procedures set forth in Note 4 to § 73.3573.

7. Amend § 73.215 by revising paragraphs (a)(4) and the table to paragraph (e) to read as follows:

§ 73.215 Contour protection for short-spaced assignments.

(a) * * *

(4) Protected and interfering contours (in dBu) for stations in Puerto Rico and the U.S. Virgin Islands are as follows:

Station with interfering contour | Station with protected contour: Class A: Interfering | Station with protected contour: Class A: Protected | Station with protected contour: Class B1: Interfering | Station with protected contour: Class B1: Protected | Station with protected contour: Class B: Interfering | Station with protected contour: Class B: Protected
Co-Channel:
Class A | 46 | 66 | 41 | 61 | 40 | 60
Class B1 | 43 | 63 | 39 | 59 | 38 | 58
Class B | 45 | 65 | 41 | 61 | 41 | 61
1st Adj. Channel:
Class A | 61 | 67 | 56 | 62 | 59 | 65
Class B1 | 57 | 63 | 54 | 60 | 54 | 60
Class B | 62 | 68 | 56 | 62 | 57 | 63
2nd-3rd Adj. Channel:
Class A | 107 | 67 | 100 | 60 | 104 | 64
Class B1 | 99 | 59 | 100 | 60 | 104 | 64
Class B | 94 | 54 | 94 | 54 | 104 | 64
Maximum permitted facilities assumed for each station pursuant to 47 CFR 73.211(b)(3):
6 kW ERP/240 meters HAAT—Class A
25 kW ERP/150 meters HAAT—Class B1
50 kW ERP/472 meters HAAT—Class B

* * * * *

(e) * * *

Relation | Co- Channel | 200 kHz | 400/600 kHz
A to A | 92 (57) | 49 (30) | 25 (16)
A to B1 | 119 (74) | 72 (45) | 42 (26)
A to B | 143 (89) | 96 (60) | 63 (39)
A to C3 | 119 (74) | 72 (45) | 36 (22)
A to C2 | 143 (89) | 89 (55) | 49 (30)
A to C1 | 178 (111) | 111 (69) | 69 (43)
A to C0 | 193 (120) | 130 (81) | 80 (50)
A to C | 203 (126) | 142 (88) | 89 (55)
B1 to B1 | 143 (89) | 96 (60) | 44 (27)
B1 to B | 178 (111) | 114 (71) | 65 (40)
B1 to C3 | 143 (89) | 96 (60) | 44 (27)
B1 to C2 | 175 (109) | 114 (71) | 50 (31)
B1 to C1 | 200 (124) | 134 (83) | 71 (44)
B1 to C0 | 0215 (134) | 153 (95) | 81 (50)
B1 to C | 233 (145) | 165 (103) | 99 (61)
B to B | 211 (131) | 145 (90) | 68 (42)
B to C3 | 178 (111) | 114 (70) | 65 (40)
B to C2 | 211 (131) | 145 (90) | 68 (42)
B to C1 | 241 (150) | 169 (105) | 73 (45)
B to C0 | 266 (165) | 195 (121) | 83 (52)
B to C | 268 (163) | 195 (121) | 99 (61)
C3 to C3 | 142 (88) | 89 (55) | 37 (23)
C3 to C2 | 166 (103) | 106 (66) | 50 (31)
C3 to C1 | 200 (124) | 133 (83) | 70 (43)
C3to C0 | 215 (134) | 152 (94) | 81 (50)
C3 to C | 226 (140) | 165 (103) | 90 (56)
C2 to C2 | 177 (110) | 117 (73) | 52 (32)
C2 to C1 | 211 (131) | 144 (90) | 73 (45)
C2 to C | 227 (141) | 163 (101) | 83 (52)
C2 to C | 237 (147) | 176 (109) | 96 (61)
C1 to C1 | 224 (139) | 158 (98) | 76 (47)
C1 to C0 | 239 (148) | 176 (109) | 88 (55)
C1 to C | 249 (155) | 188 (117) | 99 (61)
C0 to C0 | 259 (161) | 196 (122) | 90 (56)
C0 to C | 270 (168) | 207 (129 | 99 (61)
C to C | 270 (168) | 209 (130) | 99 (61)

§ 73.315 [Amended]

8. Amend § 73.315 by removing the note following paragraph (a).

9. Amend § 73.509 by revising the table to paragraph (a) to read as follows:

§ 73.509 Prohibited overlap.

(a) * * *

Frequency separation | Contour of proposed station | Contour of other station
Co-channel | 0.1mV/m (40 dBu) 1 mV/m (60 dBu) | 1 mV/m (60 dBu) 0.1 mV/m (40 dBu)
200 kHz | 0.5 mV/m (54 dBu) 1 mV/m (60 dBu)1 | 1 mV/m (60 dBu) 0.5 mV/m (54 dBu)
400 kHz/600 kHz | 100 mV/m (100 dBu) 1 mV/m (60 dBu) | 1 mV/m (60 dBu) 100 mV/m (100 dBu)

* * * * *

10. Add a new § 73.515 to read as follows:

§ 73.515 NCE FM transmitter location.

The transmitter location shall be chosen so that, on the basis of effective radiated power and antenna height above average terrain employed, a minimum field strength of l mV/m (60 dBu) will be provided over at least 50 percent of its community of license or reach 50 percent of the population within the community.

11. Amend § 73.807 by revising the tables to paragraphs (a)(1) and (b)(1) to read as follows:

§ 73.807 Minimum distance separation between stations.

(a) * * *

(1) * * *

Station class protected by LP100 | Co-channel minimum separation (km): Required | Co-channel minimum separation (km): For no interference received from max. class facility | First-adjacent channel minimum separation (km): Required | First-adjacent channel minimum separation (km): For no interference received from max. class facility | Second-adjacent channel minimum separation (km): Required | I.F. channel minimum separations: 10.6 or 10.8 MHz
LP100 | 24 | 24 | 14 | 14 | None | None
D | 24 | 24 | 13 | 13 | 6 | 3
A | 67 | 92 | 56 | 56 | 29 | 6
B1 | 87 | 119 | 74 | 74 | 46 | 9
B | 112 | 143 | 97 | 97 | 67 | 12
C3 | 78 | 119 | 67 | 67 | 40 | 9
C2 | 91 | 143 | 80 | 84 | 53 | 12
C1 | 111 | 178 | 100 | 111 | 73 | 20
C0 | 122 | 193 | 111 | 130 | 84 | 22
C | 130 | 203 | 120 | 142 | 93 | 28

* * * * *

(b) * * *

(1) * * *

Station class protected by LP10 | Co-channel minimum separation (km): Required | Co-channel minimum separation (km): For no interference received from max. class facility | First-adjacent channel minimum separation (km): Required | First-adjacent channel minimum separation (km): For no interference received from max. class facility | Second-adjacent channel minimum separation (km): Required | I.F. Channel minimum separations: 10.6 or 10.8 MHz
LP100 | 16 | 22 | 10 | 11 | None | None
LP10 | 13 | 13 | 8 | 8 | None | None
D | 16 | 21 | 10 | 11 | 6 | 2
A | 59 | 90 | 53 | 53 | 29 | 5
B1 | 77 | 117 | 70 | 70 | 45 | 8
B | 99 | 141 | 91 | 91 | 66 | 11
C3 | 69 | 117 | 64 | 64 | 39 | 8
C2 | 82 | 141 | 77 | 81 | 52 | 11
C1 | 103 | 175 | 97 | 108 | 73 | 18
C0 | 114 | 190 | 99 | 127 | 84 | 21
C | 122 | 201 | 116 | 140 | 92 | 26

* * * * *

12. Amend § 73.1690 by revising paragraph (b)(2) and by adding paragraph (c)(11) to read as follows:

§ 73.1690 Modification of transmission systems.

* * * * *

(b) * * *

(2) Any change in station geographic coordinates, including coordinate corrections of more than 3 seconds latitude and/or 3 seconds longitude. FM and TV directional stations must also file a construction permit application for any move of the antenna to another tower structure located at the same coordinates.

* * * * *

(c) * * *

(11) Correction of geographic coordinates where the change is 3 seconds or fewer in latitude and/or 3 seconds or fewer in longitude, provided there is no physical change in location and no other licensed parameters are changed. The correction of coordinates may not result in any new short spacings or increases in existing short spacings.

* * * * *

13. Amend § 73.3573 by adding Note 4 to read as follows:

§ 73.3573 Processing FM broadcast station applications.

* * * * *

Note 4 To § 73.3573: A Class C station operating with antenna height above average terrain (“HAAT”) of less than 451 meters is subject to reclassification as a Class C0 station upon the filing of a triggering application for construction permit that is short-spaced to such a Class C station under § 73.207 but would be fully spaced to such a station considered as a Class C0 assignment. Triggering applications may utilize § 73.215. Triggering applications must certify that no alternative channel is available for the proposed service. Available alternative frequencies are limited to frequencies that the proposed service could use at the specified antenna location in full compliance with the distance separation requirements of § 73.207, without any other changes to the FM Table of Allotments. Copies of a triggering application and related pleadings must be served on the licensee of the affected Class C station. If the staff concludes that a triggering application is acceptable for filing, it will issue an order to show cause why the affected station should not be reclassified as a Class C0 station The order to show cause will provide the licensee 30 days to express in writing an intention to seek authority to modify the subject station's technical facilities to minimum Class C HAAT or to otherwise challenge the triggering application. If no such intention is expressed and the triggering application is not challenged, the subject station will be reclassified as a Class C0 station, and processing of the triggering application will be completed. If an intention to modify is expressed, an additional 180-day period will be provided during which the Class C station licensee must file an acceptable construction permit application to increase antenna height to at least 451 meters HAAT. Upon grant of such a construction permit application, the triggering application will be dismissed. Class C station licensees must serve on triggering applicants copies of any FAA submissions related to the application grant process. If the construction is not completed as authorized, the subject Class C station will be reclassified automatically as a Class C0 station. The reclassification procedure also may be initiated through the filing of an original petition for rule making to amend the FM Table of Allotments as set forth in Note 2 to § 1.420(g).

14. Amend § 73.3584 by redesignating paragraph (d) as paragraph (e) and by adding a new paragraph (d) to read as follows:

§ 73.3584 Procedure for filing petitions to deny.

* * * * *

(d) A party in interest may file a Petition to Deny any application that proposes reclassification of a Class C authorization to Class C0 not later than 30 days after issuance of an order to show cause by the Commission notifying the affected licensee of the proposed reclassification.

* * * * *

PART 74—EXPERIMENTAL RADIO, AUXILIARY, SPECIAL BROADCAST AND OTHER PROGRAM DISTRIBUTION SERVICES

15. The authority citation for Part 74 continues to read as follows:

Authority: 47 U.S.C. 154, 303, 307, and 554.

16. Amend § 74.1204 by revising paragraph (a)(1) to read as follows:

§ 74.1204 Protection of FM broadcast stations and FM translators.

(a) * * *

(1) Commercial Class B FM Stations (Protected Contour: 0.5 mV/m)

Frequency separation | Interference contour of proposed translator station | Protected contour of commercial Class B station
Co-channel | 0.05 mV/m (34 dBu) | 0.5 mV/m (54 dBu)
200 kHz | 0.25 mV/m (48 dBu) | 0.5 mV/m (54 dBu)
400 kHz/ 600 kHz | 50.0 mV/m (94 dBu) | 0.5 mV/m (54 dBu)

(2) Commercial Class B1 FM Stations (Protected Contour: 0.7 mV/m)

Frequency separation | Interference contour of proposed translator station | Protected contour of commercial Class B1 station
Co-channel | 0.07 mV/m (37 dBu) | 0.7 mV/m (57 dBu)
200 kHz | 0.35 mV/m (51 dBu) | 0.5 mV/m (57 dBu)
400 kHz/ 600 kHz | 70.0 mV/m (97 dBu) | 0.7 mV/m (57 dBu)

(3) All Other Classes of FM Stations (Protected Contour: 1 mV/m)

Frequency separation | Interference contour of proposed translator | Protected contour of any other station
Co-channel | 0.1 mV/m (40 dBu) | 1 mV/m (60 dBu)
200 kHz | 0.5 mV/m (54 dBu) | 1 mV/m (60 dBu)
400 kHz/ 600 kHz | 100 mV/m (100 dBu) | 1 mV/m (60 dBu)

* * * * *

17. Amend § 74.1251 by revising paragraph (b)(7) to read as follows:

§ 74.1251 Technical and equipment modifications.

* * * * *

(b) * * *

(7) Any increase of authorized effective radiated power. FM translator and booster stations may decrease ERP on a modification of license application provided that exhibits are included to demonstrate that the following requirements are met:

(i) The license application may not propose to eliminate the authorized horizontally polarized ERP, if a horizontally polarized ERP is currently authorized;

(ii) The installed height of the antenna radiation center is not increased by more than two meters nor decreased by more than four meters from the authorized height for the antenna radiation center; and

(iii) The station is not presently authorized with separate horizontal and vertical antennas mounted at different heights. Use of separate horizontal and vertical antennas requires a construction permit before implementation or changes.

* * * * *

[FR Doc. 00-32201 Filed 12-19-00; 8:45 am]

BILLING CODE 6712-01-U